DEPARTMENT OF ENERGY

Federal Energy Regulatory Commission

Combined Notice of Filings

Take notice that the Commission has received the following Natural Gas Pipeline Rate and Refund Report filings:

Filings Instituting Proceedings

Docket Numbers: RP11-2554-000.

Applicants: Transwestern Pipeline Company, LLC.

Description: Transwestern Pipeline Company, LLC submits tariff filing per 154.402: TW_ACA_2011_Filing to be effective 10/1/2011.

Filed Date: 09/02/2011.

Accession Number: 20110902-5086.

Comment Date: 5 p.m. Eastern Time on Wednesday, September 14, 2011.

Docket Numbers: RP11-2555-000.

Applicants: Southern Star Central Gas Pipeline, Inc.

Description: Southern Star Central Gas Pipeline, Inc. Notice of Termination of Negotiated Rate Agreement with Empire District Electric Co.

Filed Date: 09/02/2011.

Accession Number: 20110902-5111.

Comment Date: 5 p.m. Eastern Time on Wednesday, September 14, 2011.

Docket Numbers: RP11-2556-000.

Applicants: Tennessee Gas Pipeline Company.

Description: Tennessee Gas Pipeline Company submits tariff filing per 154.601: Permanent Assignment DOMAC to GDF SUEZ Negotiated Rate to be effective 10/1/2011.

Filed Date: 09/02/2011.

Accession Number: 20110902-5139.

Comment Date: 5 p.m. Eastern Time on Wednesday, September 14, 2011.

Docket Numbers: RP11-2557-000.

Applicants: Southern Star Central Gas Pipeline, Inc.

Description: Southern Star Central Gas Pipeline, Inc., Petition for Waiver of Missed Capacity Release Bidding Deadlines.

Filed Date: 09/02/2011.

Accession Number: 20110902-5153.

Comment Date: 5 p.m. Eastern Time on Wednesday, September 14, 2011.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP11-2443-001.

Applicants: Columbia Gulf Transmission Company.

Description: Columbia Gulf Transmission Company submits tariff filing per 154.205(b): ACA Errata 2011 to be effective 10/1/2011.

Filed Date: 09/02/2011.

Accession Number: 20110902-5041.

Comment Date: 5 p.m. Eastern Time on Wednesday, September 14, 2011.

Docket Numbers: RP11-2533-001.

Applicants: MIGC LLC.

Description: MIGC LLC submits tariff filing per 154.205(b): MIGC LLC Amended 2011 ACA Filing to be effective 10/1/2011.

Filed Date: 09/02/2011.

Accession Number: 20110902-5117.

Comment Date: 5 p.m. Eastern Time on Wednesday, September 14, 2011.

Docket Numbers: RP11-2356-001.

Applicants: Kern River Gas Transmission Company.

Description: Kern River Gas Transmission Company submits tariff filing per 154.203: 2011 September 6 Compliance to be effective 9/1/2011.

Filed Date: 09/06/2011.

Accession Number: 20110906-5155.

Comment Date: 5 p.m. Eastern Time on Monday, September 19, 2011.

Docket Numbers: RP11-2503-001.

Applicants: National Fuel Gas Supply Corporation.

Description: National Fuel Gas Supply Corporation submits tariff filing per: ACA Correction 2 to be effective N/A.

Filed Date: 09/06/2011.

Accession Number: 20110906-5039.

Comment Date: 5 p.m. Eastern Time on Monday, September 19, 2011.

Any person desiring to protest in any the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: September 7, 2011.
Nathaniel J. Davis, Sr.,
Deputy Secretary.

[FR Doc. 2011-23403 Filed 9-13-11; 8:45 am]

BILLING CODE 6717-01-P